DEPARTMENT OF COMMERCE

National Oceanic and Atmospheric Administration

Availability of Seats for the Channel Islands National Marine Sanctuary Advisory Council

AGENCY: Office of National Marine Sanctuaries (ONNS), National Ocean Service (NOS), National Oceanic and Atmospheric Administration (NOAA), Department of Commerce (DOC).

ACTION: Notice and request for applications.

SUMMARY: The ONNS is seeking applications for the following vacant seats on the Channel Islands National Marine Sanctuary Advisory Council: Tourism alternate, Recreational Fishing member and alternate, Education member and alternate, Public at Large alternates (2), Chuinash Community member and alternate, Business alternate, and Commercial Fishing alternate. Applicants are chosen based upon their particular expertise and experience in relation to the seat for which they are applying; community and professional affiliations; views regarding the protection and management of marine resources; and possibly the length of residence in the area affected by the sanctuary. Applicants who are chosen as members should expect to serve 2-year terms, pursuant to the council's Charter.

DATES: Applications are due by April 23, 2010.

ADDRESSES: Application kits may be obtained from http://www.channelislands.noaa.gov/sac/news.html. Completed applications should be sent to Danielle.lipski@noaa.gov.

FOR FURTHER INFORMATION CONTACT: Michael Murray, Channel Islands National Marine Sanctuary, 113 Harbor Way Suite 150 Santa Barbara, CA 93109-2315, 805-966-7107 extension 464, michael.murray@noaa.gov.

SUPPLEMENTARY INFORMATION: The CINNS Advisory Council was originally established in December 1998 and has a broad representation consisting of 21 members, including ten government agency representatives and eleven members from the general public. The Council functions in an advisory capacity to the Sanctuary Superintendent. The Council works in concert with the Sanctuary Superintendent by keeping him or her informed about issues of concern throughout the Sanctuary, offering recommendations on specific issues, and aiding the Superintendent in achieving the goals of the Office National Marine Sanctuaries. Specifically, the Council's objectives are to provide advice on: (1) Protecting natural and cultural resources and identifying and evaluating emergent or critical issues involving Sanctuary use or resources; (2) identifying and realizing the Sanctuary's research objectives; (3) identifying and realizing educational opportunities to increase the public knowledge and stewardship of the Sanctuary environment; and (4) assisting to develop an informed constituency to increase awareness and understanding of the purpose and value of the Sanctuary and the Office of National Marine Sanctuaries.

Authority: 16 U.S.C. 1431, et seq.

(Federal Domestic Assistance Catalog Number 11.429 Marine Sanctuary Program)

Dated: March 3, 2010.
Daniel J. Basta,
Director, Office of National Marine Sanctuaries, National Oceanic Service, National Oceanic and Atmospheric Administration.

[FR Doc. 2010-5542 Filed 3-16-10; 8:45 am]

BILLING CODE 3510-22-M